NUCLEAR REGULATORY COMMISSION

NUREG/CR-6931 Volume 1, “CAROLFIRE Test Report Volume 1: General Test Descriptions and the Analysis of Circuit Response Data, Draft for Public Comment,” and NUREG/CR-6931 Volume 2, “CAROLFIRE Test Report Volume 2: Cable Fire Response Data for Fire Model Improvement, Draft for Public Comment—Revision 1”

AGENCY: Nuclear Regulatory Commission (NRC).

ACTION: Notice of availability of “CAROLFIRE Test Report Volume 1: General Test Descriptions and the Analysis of Circuit Response Data, Draft for Public Comment,” and “CAROLFIRE Test Report Volume 2: Cable Fire Response Data for Fire Model Improvement, Draft for Public Comment—Revision 1,” and request for public comment.

SUMMARY: The NRC is making NUREG/CR-6931 Volume 1, “CAROLFIRE Test Report Volume 1: General Test Descriptions and the Analysis of Circuit Response Data, Draft for Public Comment,” and NUREG/CR-6931 Volume 2, “CAROLFIRE Test Report Volume 2: Cable Fire Response Data for Fire Model Improvement, Draft for Public Comment—Revision 1” available for public comment for a period of 45 days.

DATES: Comments on these documents should be submitted during the 45-day public comment period. Comments received after that date will be considered to the extent practicable. To ensure efficient and complete comment resolution, comments should include volume, section, page, and line numbers of the document to which the comment applies, if possible.

ADDRESSES: Members of the public are invited and encouraged to submit written comments to Michael Lesar, Chief, Rulemaking, Directives and Editing Branch, Office of Administration, Mail Stop T6-D59, U.S. Nuclear Regulatory Commission, Washington, DC 20555-0001. Comments can also be hand delivered to Michael Lesar, 11545 Rockville Pike, Rockville, MD, between 7:30 a.m. and 4:15 p.m. on Federal workdays. Comments may also be sent electronically to NRCREP@nrc.gov.

These documents are available at the Agencywide Documents Access and Management System (ADAMS) Public Electronic Reading Room on the Internet at the NRC Web site at http://www.nrc.gov/reading-rm/adams.html under Accession No. ML071300299; on the NRC Web site at http://www.nrc.gov/reading-rm/doc-collections/nuregs/docs4comment.html; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION CONTACT: Mark H. Salley, Fire Research Branch, Materials Engineering Directorate, Office of Nuclear Regulatory Research, telephone (301) 415-2840, e-mail mxs3@nrc.gov.

SUPPLEMENTARY INFORMATION: The purpose of NUREG/CR-6931 Volume 1 entitled “CAROLFIRE Test Report Volume 1: General Test Descriptions and the Analysis of Circuit Response Data, Draft for Public Comment,” is to document the fire test data taken during the Cable Response to Live Fire (CAROLFIRE) testing program to resolve “Bin 2 items” identified in Regulatory Issue Summary (RIS) 2004-03. RIS 2004-03 clarifies the scope of regulatory compliance inspections related to post-fire safe shutdown circuit analysis, and specifically, the cable failure modes effects analysis including spurious operation of plant equipment. The relevant Bin 2 items represent those cable failure mode configurations for which current data and understanding were lacking when the RIS was issued; CAROLFIRE provides that data.

The purpose of NUREG/CR-6931 Volume 2 entitled “CAROLFIRE Test Report Volume 2: Cable Fire Response Data for Fire Model Improvement, Draft for Public Comment—Revision 1,” is to document the fire data taken during the CAROLFIRE program to foster the development of tailored cable thermal response and electrical failure fire modeling tools. This represents an extension of ongoing NRC fire model Verification and Validation efforts that address a recognized gap in current fire modeling capabilities.

The NRC is seeking public comment in order to receive feedback from the widest range of interested parties and to ensure that all information relevant to developing this document is available to the NRC staff. These documents are issued for comment only and are not intended for interim use. The NRC will review public comments received on the documents, incorporate suggested changes as necessary, and issue the final NUREG/CR-6931 Volumes 1 and 2 for use.

Dated at Rockville, MD, this 21st day of May 2007.
For the Nuclear Regulatory Commission.
Mark A. Cunningham,
Director, Division of Fuel, Engineering and Radiological Research, Office of Nuclear Regulatory Research.

[FR Doc. E7-10611 Filed 5-31-07; 8:45 am]

BILLING CODE 7590-01-P